DEPARTMENT OF COMMERCE

National Oceanic and Atmospheric Administration

[I.D. 123005A]

Endangered and Threatened Species; Take of Anadromous Fish

AGENCY: National Marine Fisheries Service (NMFS), National Oceanic and Atmospheric Administration (NOAA), Commerce.

ACTION: Extension of scientific research permit 1376 - Modification 1.

SUMMARY: Notice is hereby given that NMFS has received a request to extend the duration of a scientific research permit that currently allows Pacific salmon to be taken. The research is designed to increase knowledge of salmonids listed under the Endangered Species Act (ESA) and help guide management and conservation efforts.

DATES: Comments or requests for a public hearing on the application must be received no later than 5 p.m. Pacific time on February 6, 2006.

ADDRESSES: Written comments on the application should be sent to Protected Resources Division, NMFS, 1201 NE. Lloyd Blvd., Suite 1100, Portland, OR 97232-1274. Comments may also be sent via fax to 503-230-5441 or by e-mail to resapps.nwr@NOAA.gov.

FOR FURTHER INFORMATION CONTACT: Garth Griffin, Portland, OR (ph.: 503-231-2005, Fax: 503-230-5435, e-mail: Garth.Griffin@noaa.gov). Permit application instructions are available at http://www.nwr.noaa.gov.

SUPPLEMENTARY INFORMATION:

Species Covered in This Notice

The following listed species (evolutionarily significant unit) is covered in this notice:

Chinook salmon (O. tshawytscha): threatened naturally produced and artificially propagated Puget Sound (PS).

Authority

Scientific research permits are issued in accordance with section 10(a)(1)(A) of the ESA (16 U.S.C. 1531 et. seq) and regulations governing listed fish and wildlife permits (50 CFR Parts 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on this extension request should set out the specific reasons why such a hearing would be appropriate (see ADDRESSES). Hearings are held at the discretion of the Assistant Administrator for Fisheries, NOAA.

Extension Request

Permit 1376 - Modification 1

Permit 1376 currently authorizes the Washington Cooperative Fish and Wildlife Research Unit (University of Washington, School of Aquatic and Fisheries Sciences) to take juvenile and adult PS Chinook salmon in Lakes Washington and Sammamish, Washington. The purpose of the research is to understand food web interactions, identify sources of mortality, and determine the energetic requirements for sustaining fish and zooplankton communities in each lake. The study helps researchers identify and quantify factors limiting survival and growth of juvenile salmon and other species. The UW captures (using gillnets, trawls, hook-and-line, trot lines, minnow traps, beach seines, and backpack electrofishing equipment), anesthetizes, handles, measures, weighs, and releases juvenile PS Chinook salmon and examines their stomach contents. The permittee is asking NMFS to allow the research to continue until December 31, 2006. No other changes are proposed. Further information on the actions covered by this permit may be obtained from previous notices, from the biological opinion analyzing the effects of the research (2002/01919C - which is still in effect), and on the web at http://www.nwr.noaa.gov/.

This notice is provided pursuant to section 10(c) of the ESA. NMFS will evaluate the request, associated documents, and comments submitted to determine whether the request meets the requirements of section 10(a) of the ESA and Federal regulations. The final permit decision will not be made until after the end of the 30-day comment period. NMFS will publish notice of its final action in the Federal Register.

Dated: December 30, 2005.
Susan Pultz,
Acting Chief, Endangered Species Division, Office of Protected Resources, National Marine Fisheries Service.

[FR Doc. E6-16 Filed 1-5-06; 8:45 am]

BILLING CODE 3510-22-S